ENVIRONMENTAL PROTECTION AGENCY

40 CFR Part 52

[EPA-R09-OAR-2012-0904, FRL-9846-5]

Approval and Disapproval of Air Quality State Implementation Plans; Arizona; Regional Haze and Interstate Transport Requirements

AGENCY: Environmental Protection Agency (EPA).

ACTION: Final rule; correction.

SUMMARY: EPA is correcting the preamble to the final rule that appeared in the Federal Register on July 30, 2013. This final rule partially approved and partially disapproved a portion of Arizona's State Implementation Plan (SIP) to implement the regional haze program for the first planning period through 2018. The final rule preamble inadvertently misstated the effective date of the rule under the Congressional Review Act and the deadline for filing of petitions for judicial review of the rule under section 307(b)(1) of the Clean Air Act. This document corrects those errors and clarifies that the rule was signed by the Acting Regional Administrator for EPA Region 9.

DATES: This rule is effective on August 29, 2013.

FOR FURTHER INFORMATION CONTACT: Gregory Nudd, U.S. EPA, Region 9, Planning Office, Air Division, Air-2, 75 Hawthorne Street, San Francisco, CA 94105. Gregory Nudd can be reached at telephone number (415) 947-4107 and via electronic mail at r9azreghaze@epa.gov.

SUPPLEMENTARY INFORMATION: In Federal Register document 2013-18022 published in the Federal Register on July 30, 2013 (78 FR 46142), the following corrections are made:

1. On page 46174, in the third column, in section VI. Statutory and Executive Order Reviews, paragraph K. Congressional Review Act, the last sentence is corrected to read as follows: “This rule will be effective on August 29, 2013.”

2. On page 46174, in the third column, in section VI. Statutory and Executive Order Reviews, paragraph L. Petitions for Judicial Review, the first sentence is corrected to read as follows: “Under section 307(b)(1) of the Clean Air Act, petitions for judicial review of this action must be filed in the United States Court of Appeals for the appropriate circuit by September 28, 2013.”

3. On page 46174, in the third column, the title of Jane Diamond is corrected to read as follows: “Acting Regional Administrator, Region 9.”

List of Subjects in 40 CFR Part 52

Environmental protection, Air pollution control, Incorporation by reference, Intergovernmental relations, Nitrogen oxides, Sulfur dioxide, Particulate matter, Reporting and recordkeeping requirements, Visibility, Volatile organic compounds.

Authority: 42 U.S.C. 7401 et seq.

Dated: August 2, 2013.
Jared Blumenfeld,
Regional Administrator, Region 9.

[FR Doc. 2013-19618 Filed 8-14-13; 8:45 am]

BILLING CODE 6560-50-P